DEPARTMENT OF HOUSING AND URBAN DEVELOPMENT

[Docket No. FR-4815-N-82]

Notice of Submission of Proposed Information Collection to OMB: Restrictions on Assistance to Noncitizens

AGENCY: Office of the Chief Information Officer, HUD.

ACTION: Notice.

SUMMARY: The proposed information collection requirement described below will be submitted to the Office of Management and Budget (OMB) for review, as required by the Paperwork Reduction Act. The submission is a request for extension of the current approval to collect information on baseline performance standards. This information replaced various reporting requirements and places greater emphasis on performance and results in grant programs.

The Department is soliciting public comments on the subject proposal.

DATES: Comments Due Date: December 29, 2003.

ADDRESSES: Interested persons are invited to submit comments regarding this proposal. Comments should refer to the proposal by name and/or OMB approval number (2501-0014) and should be sent to: Wayne Eddins, Reports Management Officer, AYO, Department of Housing and Urban Development, 451 Seventh Street, Southwest, Washington, DC 20410; e-mail Wayne_Eddins@HUD.gov.

FOR FURTHER INFORMATION CONTACT: Melosan Bell, Programs Assistant, Public Housing Management and Occupancy Division, PEHP, or Cynthia Thomas, Housing Project Manager, Housing Assistance Policy Division, HTHH, Department of Housing and Urban Development, 451 Seventh Street, SW., Washington, DC 20410; e-mail Melosan_Bell@HUD.GOV; or Cynthia_L._Thomas@HUD.GOV; telephone (202) 708-0744 x4021 or (202) 708-2866 x3686. This is not a toll-free number. Copies of available documents submitted to OMB may be obtained from Ms. Bell or Ms. Thomas.

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This Notice also lists the following information:

Title of Proposal: Restrictions on Assistance to Noncitizens.

OMB Approval Number: 2501-0014.

Form Numbers: None.

Description of the Need for the Information and Its Proposed Use: Respondents provide written declaration of citizenship, eligible immigration status, alien registration documents and verification consent forms to housing authorities and multifamily property owners to ensure that citizens and legal residents are the recipients of public benefits.

Respondents: Individuals or Households, State, Local or Tribal Government, Business or other for-profit.

Frequency of Submission: On occasion.

Reporting Burden: Estimation of the total number of hours needed to prepare the information collection including number of respondents, frequency of response, and hours of response: The number of respondents is 3,030,000, frequency of response is on occasion, the total annual responses are 20,794,000 and the annual burden hours requested is 366,000

Total Estimated Burden Hours: 366,000.

Status: Extension of a currently approved collection.

Authority: Section 3507 of the Paperwork Reduction Act of 1995, 44 U.S.C. 35, as amended.

Dated: October 23, 2003.
Donna Eden,
Director, Office of the Chief Information Officer, Office of Investment Strategies, Policy, and Management.

[FR Doc. 03-27183 Filed 10-28-03; 8:45 am]

BILLING CODE 4210-72-P